DEPARTMENT OF TRANSPORTATION

Office of the Secretary

[OST Docket No. DOT-OST-2011-0022]

Notice of Submission of Proposed Information Collection to OMB of Agency Request for Revision of a Previously Approved Collection: Online Complaint Form and Related Uses of a Modernized Aviation Consumer Protection Information Technology System

AGENCY: Office of the Secretary, Department of Transportation.

ACTION: Notice and request for comments. Revision of information related to an active OMB control number.

SUMMARY: In accordance with the Paperwork Reduction Act of 1995, this notice announces the Department of Transportation's intention to revise an information collection request (ICR) related to an OMB control number for an online complaint form by which a consumer can electronically submit a service-related complaint against an airline and other air travel-related companies. The complaint form has been revised as part of the Department's Office of Aviation Consumer Protection's (OACP) information technology (IT) system modernization project. A Federal Register Notice with a 60-day comment period soliciting comments on the following information collection was published on November 1, 2023: Online Complaint Form for Service-Related Issues in Air Transportation. One comment was received by Airlines for America (A4A). This notice responds to that comment and adds two new ICRs to capture additional functionalities of the modernized IT system. The new ICRs are related to external users, such as regulated entities and other users, that may use the modernized IT system to set up and manage individual accounts and access complaints and other submissions and/or submit complaint responses, reports, or other information into that system.

DATES: Comments on this notice must be received by July 22, 2024.

ADDRESSES: Written comments and recommendations for the proposed ICR should be sent within 30 days of publication of this notice to www.reginfo.gov/public/do/PRAMain. Find this particular ICR by selecting “Currently under 30-day Review—Open for Public Comments” or by using the search function.

FOR FURTHER INFORMATION CONTACT: Daeleen Chesley, Office of the General Counsel, Office of the Secretary, U.S. Department of Transportation, 1200 New Jersey Avenue SE, Washington, DC, 20590, 202-366-9342 (Voice), or Daeleen.Chesley@dot.gov (Email). Arrangements to receive this document in an alternative format may be made by contacting the above-named individual.

SUPPLEMENTARY INFORMATION:

OMB Control Number: 2105-0568.

Title: Online Complaint Form and Related Uses of a Modernized Aviation Consumer Protection Information Technology System.

Abstract: The Department of Transportation's (Department) Office of Aviation Consumer Protection (OACP), formerly the Office of Aviation Enforcement and Proceedings, has broad authority under 49 U.S.C., subtitle VII, to investigate and enforce consumer protection and civil rights laws and regulations related to air transportation.

Among other things, OACP receives service-related consumer complaints filed against airlines and other air travel-related companies. Information from complaints and airline and travel company responses may be used by the office to determine the extent to which these entities are in compliance with federal aviation consumer protection and civil rights laws and what, if any, action should be taken regarding issues raised in consumer complaints. The information submitted via the online form may also be used to ascertain consumer satisfaction with air transportation services and serve as a basis for rulemaking, legislation, and research.

Revision of Consumer Submissions (Complaints, Comments, Compliments) ICR

The ICR related to the complaint submission form is being revised due to updates that OACP is making to the office's online air consumer complaint form as part of an Information Technology (IT) system modernization project.¹ Most consumer submissions (over 90%) are complaints that are filed using the web-based form. At times, consumers may also choose to file a complaint with the Department using regular mail. The type of information requested on the current form includes complainant's name, address, phone number (including area code), email address, and name of the airline or company about which she/he is complaining, as well as the flight date and flight itinerary (where applicable) of a complainant's trip. In addition, a consumer may also provide a narrative description of a specific air-travel related problem or issue. The Department has limited its informational request to that necessary to meet its aviation consumer protection responsibilities.

¹ OACP's outdated legacy IT system is the Consumer Complaint Application System (CCA). CCA will be de-commissioned a short time after the modernized IT system is available for public use.

The updated form continues to allow consumers to input information related to complaints about their flight experience, as well as to submit general comments and compliments. However, aviation consumers submitting complaints or comments via the form based on the modernized IT system will be efficiently guided through their entry by the system using conditional logic. The modernized system, or Aviation Complaint, Enforcement, and Reporting System (ACERS), allows for additional information fields and guides consumers to enter specific information, which will better ensure an individual air consumer's specific concerns are more comprehensively captured in the modernized IT system.

This information collection request is to enable consumers to continue to file their complaints and comments to the Department using an online form, whether via personal computer or on a mobile device. If the online complaint form is not available, the Department may receive fewer complaints and comments from consumers. The lack of consumer input could inhibit OACP's ability to effectively investigate individual complaints against both airlines and other air travel-related companies. It would also impact OACP's ability to become aware of potentially unfair or deceptive practices that may develop in violation of the Department's rules. The information collection continues to further the objective of 49 U.S.C. 41712 to protect consumers from unfair or deceptive practices, the objective of § 41705 and § 40127 to ensure the civil rights of air travelers are respected, and the objective of § 41702 to ensure safe and adequate service in air transportation.

Filing a complaint or comment using a web-based form is voluntary and minimizes the burden on respondents. Based on the table below, approximately ninety-seven percent of the submissions (complaints, comments, and inquiries) received by OACP during calendar years (CYs) 2021 through 2022 were filed using the web-based form as shown in the table below.²

² As of CY 2020, OACP has received a higher number of online submissions than those submitted in prior CYs. For example, our CY17-19 average was 16,348 complaints submitted per year. In 2020, the total was 100,613 and were mostly related to flight cancellations and refund issues that resulted from the Covid-19 pandemic. In CYs 21 and 22, the number of submissions remain high but are lower than the number of complaints submitted in CY2020.

Table 1.1—Complaints Received by OACP (CY21/22)
Calendar year | Total number of complaints filed on-line | Total number of complaints filed with OACP | % of on-line submissions
2021 | 48,465 | 49,958 | 97.01
2022 | 75,731 | 77,656 | 97.52
Average Total | 62,098 | 63,807 | 97.27

Table 1.2—Comments (Non-Complaints) Received by OACP (CY21/22)
Calendar year | Total number information requests | Total number compliments | Total number opinions
2021 | 5,799 | 14 | 444
2022 | 7,575 | 24 | 1,008
Average Total | 6,687 | 19 | 726
Total Yearly Average: 6,782 |  |  |

New ICRs

In response to comments submitted by A4A, the Department is adding two ICRs to this notice to capture additional burdens associated with using ACERS. A4A identified additional burdens related to providing information to OACP via ACERS that were not captured in the 60-day notice. A4A members and other regulated entities that are required to file certain reports with OACP and to respond to consumer complaints already submit information to the Department, primarily via email, and in some instances, via a portal into OACP's legacy database system that ACERS is replacing. OACP has routinely requested airline responses to consumer complaints implicating regulated areas from carriers and carriers have routinely been providing this information as a general practice. OACP anticipates that the use of ACERS will be less burdensome and save time for regulated entities that use the system because the modernized IT system includes enhanced features, e.g., drag and drop functionality.

1. External User Account Creation and Management ICR

The first new ICR encompasses the burden on regulated entities (e.g., U.S. and foreign air carriers, air travel companies) and other external users to create individual organizational accounts in ACERS and, subsequently, manage those accounts.

As noted above, consumers will use ACERS to create and submit their complaints/comments. ACERS is designed to provide airlines and air travel companies the ability to review consumer submissions about its air transportation services directly within the system. The system is intended to facilitate more efficient interaction between OACP and regulated entities. As such, each carrier or air travel company that uses the system for complaint handling will need to set up and manage an account for their staff to be able to access the system.³ Account set-up and management will be handled by a staff member of the entity that has been designated by that entity to create and manage the accounts. In most cases, that person will be that entity's regulatory liaison to the Department. It is important to note that use of ACERS is designed to provide direct access to consumer submissions, thereby reducing the burden on those airlines and ticket agents that use it.

³ OACP has provided regulated entities the option of providing information in advance so that initial account set-up will be completed within the IT system for regulated entities before the system is launched, further reducing the burden of setting up an account.

ACERS is also designed for both U.S. and foreign air carriers as well as airports to be able to efficiently submit certain statutorily required reports (e.g., reports regarding disability complaints and tarmac delay incidents) that the entities previously submitted using OACP's legacy database system or via email. To submit these reports via ACERS, entities will also need to create and manage user accounts.⁴ In addition to use by regulated entities, the system has also been designed to facilitate inter-agency coordination to help protect the rights of consumers in air travel.⁵ Accordingly, the Department anticipates that entities such as State attorney general offices (State AGs) may use the IT system account management features pursuant to agreements with the Department and will need to create and manage accounts to use ACERS.

⁴ Burdens associated with report submissions are covered under separate OMB control numbers. This notice addresses the burden associated with setting up and managing individual accounts in the modernized IT system.

⁵ See, US DOT website at https://www.transportation.gov/airconsumer/State_AG_Partnership.

Setting up a new account will consist of the following steps:

1. Creating a New User Account;

2. Receiving an Account Creation Email;

3. Creating a Login.gov Account (or using an existing Login.gov Account);

4. Logging into the ACERS Portal; and

5. Adding Contact Information into the Account.

Entities establishing accounts to enable access to ACERS will be able to include contact information for up to ten (10) individuals in their respective organizations who can address consumer complaints and/or submit reports. The submitted information will include (per individual) his/her role/position with the entity, a contact telephone number and an email address. Entity account managers will also be able to change contact names and information, as needed.

The chart below provides a list of external users who may use ACERS, as well as the estimated number of accounts that each entity may set up in the system.⁶

⁶ Assumptions are the following: Larger reporting carriers may have up to 10 accounts; Other carriers, foreign carriers, larger travel agents, US airports, and State AGs could have up to 2 accounts (primary and back-up accounts) but may have one or none; and small travel agents/tour operators would only need to log-in on occasion or not at all.

Table 2.1—List of External Entities by Type and Estimated Number of Accounts
Entity type | Number of respondents/ initial accounts | Estimated account holders per entity | Total estimated account holders per entity
Large Air Carriers | 15 | 10 | 150
“Other” Air Carriers | 76 | 2 | 152
Foreign Carriers | 147 | 2 | 294
Large Air Travel Companies | 19 | 2 | 38
Other Travel agents and tour operators | 61 | 1 | 61
US Airport | 401 | 2 | 802
Other External users ⁷ (e.g., State AGs) | 75 | 2 per AG (25), 1 per others | 100
SubTotal: | 794 |  | 1,597
Estimated Adjustments (18%) |  |  | 287
Total: | 794 |  | 1,884

Table 2.2—Estimated Total Burden Hours
Number of initial accounts | × 30 minutes setup per account | Number of “Other” accounts | × 15 minutes setup per account | Total =
794 | 23,820 min./397 hr | 1,090 | 16,350 min./272.5 hr | 40,170 min./669.5 hr.

Airline Responses to Consumer Complaints and Related Information

The second new ICR encompasses the burden on airlines and air travel companies that use the modernized IT system functionalities that exceed those available in the legacy system. Airlines and air travel companies will have the ability to upload complaint responses and related information to ACERS, including providing information about amounts refunded, reimbursed, or compensated where relevant. OACP anticipates that most or all complaint responses and related information will be submitted by regulated entities (U.S./foreign air carriers and air travel companies), of which U.S. carriers will be the primary submitter.⁸ Airlines and airports ⁹ may use ACERS to upload optional reports. At times, non-regulated entities (e.g., State AGs) may use ACERS to submit consumer complaints and referrals to the Department.

⁷ The Department has an MOU with 18 AGs and another 7 are anticipated to join the MOU. This estimate considers that other government entities (including additional AGs) or users may need to access ACERS before this OMB control number is renewed.

⁸ Using ATCR data from March-June 2023, U.S. carriers will submit an estimated 68% of the documents. Foreign carrier submissions are estimated at 27% and travel agents/tour operators will submit 5% of the documents.

⁹ Airports are regulated entities for purposes of tarmac delay plan submissions. The burden calculation to submit tarmac delay plans is included in a separate ICR/OMB control number (OMB 2105-0566). However, airports are included here to the extent that an airport may submit an optional additional report.

The charts below include the estimated response numbers and burdens associated with complaint submissions and follow-up.

Table 3.1—Estimate of Regulated and Non-Regulated Entities and ACERS Submissions
Entity type | Respondent number | Estimated total responses | Estimated initial submissions (80%) × 5 min. | Estimated follow-up submissions (20%) × 30 min.
Regulated entities (Air carriers, travel agents, and airports) | 318 | 62,098 | 49,678 | 12,420
Other External Users | 101 | 1,600 | 1,280 | 320
Total: | 419 | 63,698 | 50,978 | 12,740

Table 3.2—Estimated Burden for ACERS Response Upload and Follow-Up
Estimated initial responses | × 5 min. | Estimated follow-up submissions | × 30 min. | Total estimated burden
50,978 | 254,890 min./4,248 hrs | 12,740 | 382,200 min./6,370 hrs | 637,090 min./10,618 hrs.

The PRA and its implementing regulations, 5 CFR part 1320, require Federal agencies to issue two notices seeking public comment on information collection activities before OMB may approve paperwork packages. 44 U.S.C. 3506, 3507; 5 CFR 1320.5, 1320.8(d)(1), 1320.12. As stated above, on November 1, 2023, OST published a 60-day notice in the Federal Register soliciting comment on the ICR for which the agency is seeking revision from OMB: Online Complaint Form for Service-Related Issues in Air Transportation (88 FR 75093). The comment period ended on January 2, 2024. OST received one substantive comment from A4A.

A4A Comment

A4A's comment identified burdens associated with using ACERS that were not identified in the 60-day notice, which OACP has addressed in this 30-day Notice. A4A also identified many concerns regarding OACP policy decisions regarding enforcement matters, policy decisions, and publication of certain information, such as complaint data. A4A alleges that the Department is failing to adhere to established regulatory requirements of the PRA, including:

(i.) Minimizing the paperwork burden on airlines resulting from the collection of information by or for the Federal Government; and

(ii.) Improving the quality and use of Federal information to strengthen decision-making, accountability, and openness in Government and society.

A4A argues that OACP is impermissibly attempting to impose new requirements on regulated entities. OACP agrees with A4A that new requirements, such as requiring regulated entities to use ACERS, may not be imposed through the process of obtaining approval pursuant to the PRA for an information request. OACP believes that using ACERS will streamline interactions, creating efficiencies for both OACP and the regulated entities that voluntarily use the new IT system.

A4A also alleges that the Department's 60-day Notice does not include the burden on the airlines of providing responses to consumer complaints and supplemental information via ACERS, including providing information about amounts refunded, reimbursed, or compensated where relevant. OACP agrees and has included estimates of the additional burden in this 30-day Notice. The system is designed to allow the efficient submission of information that OACP anticipates will be beneficial for airlines. Furthermore, A4A notes the Department's authority to request responses to disability complaints but questions the Department's authority to request from airlines any other responses to consumers or related information. As noted above, OACP is not attempting to impose new requirements via this Notice so is not addressing A4A comments regarding the Department's authority.

In its comment, A4A notes that OACP made a policy decision to eliminate carriers' ability to administratively challenge consumer complaints. By way of background, the change that A4A objects to is OACP's elimination of an airline's ability to “transfer” complaints from the marketing carrier to the operating carrier, usually a regional partner, thereby reducing the number of complaints against the mainline carrier. OACP discontinued the policy in 2023. Complaints are counted against the carrier named by the consumer, regardless of whether it was the marketing (e.g., mainline/network) or operating (e.g., regional) airline.

A4A states that the “net effect is carriers' increased time addressing consumer complaints that are invalid, i.e., the complaint does not fall within DOT complaint category, or it is it the responsibility of another carrier or third-party.” The policy change to attribute complaints to the airline identified by the consumer, regardless of whether it was the marketing (e.g., a mainline/network) or operating (e.g., regional) airline, is unrelated to any burdens imposed by ACERS. OACP does not share A4A's view of the impact of the policy change on carriers, since airlines are required to respond to all written consumer complaints, regardless of whether the airline views the complaint as valid. A4A expresses a number of concerns related to how the policy change will impact complaint data published in the Department's Air Travel Consumer Report (ATCR). However, these are concerns about OACP policy decisions and are unrelated to the information collection requests in this Notice because the information collected from consumers will remain the same regardless of the policy decision. Accordingly, the change is not relevant to this ICR approval request.

A4A also alleges that OACP's new information collection form will create more data quality concerns for the federal government and burdens on the airlines, because it will require that consumers enter contact information but not a ticket or confirmation number since the complaint could be from someone unsuccessfully attempting to book air transportation. However, as noted above, airlines are required to respond to all written consumer complaints and accepting consumer complaints without a ticket or confirmation number is not new. Accordingly, OACP disagrees that A4A has identified a data quality concern or failed to adequately capture the burden on airlines.

A4A also questions the Department's ability to “filter out” complaints and states that ACERS will impose an additional burden on the carriers to keep complaints active and open pending a potential DOT investigation, since the system does not notify the carriers whether a complaint case has been closed. However, OACP disagrees that A4A has identified additional burdens related to ACERS as OACP is continuing its past practice in these areas. Regarding transitioning to the new system, OACP is committed to working with all external users to ensure a successful transition from the legacy IT system to ACERS.

In conclusion, A4A's comments about OACP enforcement/investigatory policies and practices and the complaint information published in the ATCR are outside the scope of this notice. Many of A4A's concerns, such as complaints about review and challenge processes, relate to policy decisions and not to the new system. The IT modernization implementing ACERS as OACP's new IT system will allow the Department to upgrade its online consumer submission form and provide regulated entities and certain other users with information submission and account management functionality. This ICR notice is limited to those uses.

Accordingly, the information collection requests described herein have been re-evaluated and certified under 5 CFR 1320.5(a) and forwarded to OMB for review and approval pursuant to 5 CFR 1320.12(c).

Before OMB decides whether to approve the revision of this proposed collection of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

1. Air Travel Consumer Complaint and Comment Burden Calculations

Respondents: Consumers that Choose to File an Online Complaint or Comment with the Office of Aviation Consumer Protection.

Burden Calculation for Complaints

Estimated Number of Respondents: 62,098 (based on averaging data from CYs 2021-22).

Estimated Total Burden on Respondents: 15,524.5 hours (931,470 minutes). The estimate was calculated by multiplying the average number of cases filed using the online form in CYs 21-22 (62,098) by the estimated time needed to fill out the online form (15 minutes).¹⁰

¹⁰ Feedback obtained during development of the modernized guided input process suggests that the form will take no longer than 15 minutes for a consumer to complete.

Burden Calculation for Comments

Estimated Number of Respondents: 6,782 (based on averaging data from CYs 2021-22).

Estimated Total Burden on Respondents: 565.17 hours (33,910 minutes). The estimate was calculated by multiplying the average number of cases filed using the online form in CYs 21-22 (6,782) by the estimated time needed to fill out the online form (5 minutes).¹¹

¹¹ An air consumer submitting these types of filing generally provide less information, so we estimate 5 minutes is sufficient.

2. IT System Account Creation and Management

Respondents: Air Travel Industry and Other Users that Create and Manage Accounts Using OACP's Modernized IT System.

Estimated Number of Respondents: 719 air travel industry and 75 “other” users.

Estimated Total Burden on Respondents: 40,170 minutes/669.5 hours. The burden was calculated by multiplying the total estimated number of respondents by the estimated time to create an account (30 min. per account), plus the time to add/change other users of the account (15 min. per account).

3. Uploading Complaint Responses and Documents to the IT System

Respondents: Air Travel Industry and Other Users that Upload Documents into OACP's Modernized IT System.

Estimated Number of Respondents: 419 air travel industry and “other” users.

Estimated Total Burden on Respondents: 637,090 minutes/10,618 hours. The burden was calculated by multiplying the total estimated number of respondents by the estimated time to upload a document (5 min. per event) and follow-up information (30 min. per event) into the system.

Public Comments Invited: You are asked to comment on any aspect of this information collection, including (a) whether the proposed collection of information is necessary for the Department's performance; (b) the accuracy of the estimated burden; (c) ways for the Department to enhance the quality, utility, and clarity of the information collection; and (d) ways that the burden could be minimized without reducing the quality of the collected information. All comments will become a matter of public record.

Authority: The Paperwork Reduction Act of 1995; 44 U.S.C. chapter 35, as amended; and 49 CFR 1.48.

Issued in Washington, DC.
Kimberly Graber,
Deputy Assistant General Counsel, Office of Aviation Consumer Protection.

[FR Doc. 2024-13580 Filed 6-20-24; 8:45 am]

BILLING CODE P